RAILROAD RETIREMENT BOARD

Proposed collection; comment request

SUMMARY: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of information collection:

Continuing Disability Report; OMB 3220-0187

Under Section 2 of the Railroad Retirement Act, an annuity is not payable or is reduced for any month in which the annuitant works for a railroad or earns more than prescribed dollar amounts from either non-railroad employment or self-employment. Certain types of work may indicate an annuitant's recovery from disability. The provisions relating to the reduction or non-payment of annuities by reasons of work and an annuitant's recovery from disability for work are prescribed in 20 CFR 220.17-220.20. The RRB conducts continuing disability reviews (CDR) to determine whether annuitants continue to meet the disability requirements of the law. Provisions relating to when and how often the RRB conducts CDR's are prescribed in 20 CFR 220.186.

Form G-254, Continuing Disability Report, is currently used by the RRB to develop information for CDR determinations, including determinations prompted by a report of work, return of railroad service, allegations of medical improvement, or routine disability call-up. The RRB proposes to modify an item that requests earnings information on Form G-254. The current version requests earnings information on specific months in which a disability annuitant earns more than a specified amount. The proposed version will request all earnings information over a specified period of time. Non-burden impacting editorial and formatting changes to Form G-254 for clarification purposes are also proposed.

Form G-254a, Continuing Disability Update Report, is used to help identify disability annuitants whose work activity and/or recent medical history warrants a more extensive review and thus completion of Form G-254. The RRB proposes non-burden impacting editorial and formatting changes to Form G-254a for clarification purposes.

One response is requested of each respondent to Form G-254 and G-254a. Completion is required to retain a benefit.

The estimated annual respondent burden is as follows:

Estimate of Annual Respondent Burden
Form #(s) | Annual responses | Time (min) | Burden (hrs)
G-254 | 1,500 | 5-55 | 956
G-254a | 1,500 | 5 | 125

Additional Information or Comments: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 02-16216 Filed 6-26-02; 8:45 am]

BILLING CODE 7905-01-M